DEPARTMENT OF TRANSPORTATION

Research and Special Programs Administration; Office of Hazardous Materials Safety

Notice of Applications for Modification of Exemption

AGENCY: Research and Special Programs Administration, DOT.

ACTION: List of applications for modification of exemption.

SUMMARY: In accordance with the procedures governing the application for, and the processing of, exemptions from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of exemptions (e.g. to provide for additional hazardous materials, packaging design changes, additional mode of transportation, etc.) are described in footnotes to the application number. Application numbers with the suffix “M” denote a modification request. These applications have been separated from the new application for exemption to facilitate processing.

DATES: Comments must be received on or before November 10, 2004.

ADDRESSES: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street, SW., Washington DC or at http://dms.dot.gov.

This notice of receipt of applications for modification of exemption is published in accordance with part 107 of the Federal hazardous materials transportation law (49 U.S.C. 5117(b); 49 CFR 1.53(b)).

Issued in Washington, DC, on October 19, 2004.
R. Ryan Posten,
Exemptions Program Officer, Office of Hazardous Materials, Exemptions & Approvals.

Modification Exemptions
Application No. | Docket No. | Applicant | Regulation(s) affected | Modification of exemption | Nature of exemption thereof
6263-M |  | Amtrol, Inc. West Warwick, RI | 49 CFR 173.302(a)(1) | 6263 | To modify the exemption to include ASME requirements for a pneumatic pressure test of the non-DOT specification non-refillable welded cylindrical or spherical steel tanks.
10319-M |  | Amtrol, Inc. West Warwick, RI | 49 CFR 173.302(a)(1); 173.306(g) | 10319 | To modify the exemption to authorize an increase in working pressure to 150 psig and the pressure test to at least 1.5 hydrostatically or 1.25 pneumatically for the non-DOT specification cylindrical pressure vessels.
11526-M |  | BOC Gases America Murray Hill, NJ | 49 CFR 172.302(c), (2), (3), (4), (5); 180.205(a)(f), (g); 180.209(b)(g); 180.215 | 11526 | To modify the exemption to authorize a change to the standard reference calibration standards for certain DOT Specification 3A of 3AA cylinders and removal of certain ultrasonic performance, test procedure and rejection criteria requirements.
11761-M |  | UOP LLC Des Plaines, IL | 49 CFR 173.31(d)(1)(iv); 172.302(c) | 11761 | To modify the exemption to authorize the transportation of the residue of an additional Class 8 material in DOT Specification and AAR specification tank cars.
11989-M | RSPA-97-3170 | U.S. Department of Defense Fort Eustis, VA | 49 CFR 172.504; 176.83(a), (d), (f) | 11989 | To modify the exemption to authorize the transportation of an additional Division 2.2 material; additional guided bomb model number component items with specific loading, blocking, bracing requirements aboard vessels.
12284-M | RSPA-99-5935 | The American Traffic Safety Services Assn. (ATSSA) Fredericksburg, VA | 49 CFR 173.242 | 12284 | To modify the exemption to authorize the transportation of Division 5.2, Division 6.1, Class 8 and additional Class 3 materials in non-DOT specification cargo tanks used for roadway striping.
12706-M | RSPA-01-9731 | Raufoss Composites AS Raufoss, NO | 49 CFR 173.201; 173.301; 173.304; 178.35; 178.50 | 12706 | To modify the exemption to update the bonfire test criteria requirements for the non-DOT specification fully-wrapped fiberglass composite cylinders.

[FR Doc. 04-23879 Filed 10-25-04; 8:45 am]

BILLING CODE 4909-60-M